DEPARTMENT OF EDUCATION

National Center for Education Statistics (NCES); Notice of Meeting of the Advisory Council on Education Statistics

AGENCY: U.S. Department of Education.

ACTION: Notice of meeting of the Advisory Council on Education Statistics.

SUMMARY: This notice sets forth the schedule and proposed agenda of a forthcoming meeting of the Advisory Council on Education Statistics (ACES). Notice of this meeting is required under Section 10(a)(2) of the Federal Advisory Committee Act. This document is intended to notify the general public of their opportunity to attend.

DATES: May 18-19, 2000.

TIMES: May 18, 2000—Full Council, 9:00 a.m.-1 p.m.; Statistics Committee, Policy Committee, and Management Committee, 1 p.m.-5 p.m. May 19, 2000—Statistics Committee, Policy Committee, and Management Committee, 8:30 a.m.-12 noon; Full Council, 12 noon—2:30 p.m.

LOCATION: The Wyndam Bristol Hotel, 2400 Pennsylvania Avenue NW, Washington, DC 20006.

FOR FURTHER INFORMATION CONTACT: Audrey Pendleton, National Center for Education Statistics, 1990 K Street NW, Room 9115, Washington, DC 20006.

SUPPLEMENTARY INFORMATION: The Advisory Council on Education Statistics (ACES) is established under Section 46(c)(1) of the Education Amendments of 1974, Public Law 93-380. The Council is established to review general policies for the operation of the National Center for Education Statistics (NCS) in the Office of Educational Research and Improvement (OERI) and is responsible for advising on standards to ensure that statistics and analyses disseminated by NCES are of high quality and are not subject to political influence. In addition, ACES is required to advise the Commissioner of NCES and the National Assessment Governing Board on technical and statistical matters related to the National Assessment of Educational Progress (NAEP). This meeting of the Council is open to the public. Individuals who will need accommodations for a disability in order to attend the meeting (i.e. interpreting services, assistive listening devices, materials in alternative format) should notify Audrey Pendleton at 202 502-7300 by no later than May 10, 2000. We will attempt to meet requests after this date, but cannot guarantee availability of the requested accommodation. The meeting site is accessible to individuals with disabilities.

The proposed agenda includes the following:

• New member swearing-in;

• A status report from the NCES Commissioner on major Center initiatives; including the Department of Education's language for the reauthorization of NCES and ACES;

• The role of ACES in producing an annual report on the quality and usefulness of data collected and reported by the Center;

• Using results from the NCES Customer Service Surveys;

Individual meetings of the three ACES Committees will focus on specific topics:

• The agenda for the Statistics Committee includes a discussion of revision of NCES statistical standards, long-term trends in the NAEP writing assessment, and a proposed Recognition and Reward program using NAEP state results.

• The agenda for the Policy Committee includes discussion of the Early Childhood Longitudinal Survey Birth Cohort and use of the results of the NCES Customer Service Survey.

• The agenda for the Management Committee will also include use of the result of the NCES Customer Service Survey in addition to general management issues.

Records are kept of all Council proceedings and are available for public inspection at the Office of the Executive Director, Advisory Council on Education Statistics, National Center for Education Statistics, 1990 K Street NW, Room 9100, Washington, DC 20006.

C. Kent McGuire,
Assistant Secretary for Educational Research and Improvement.

[FR Doc. 00-11494 Filed 5-8-00; 8:45 am]

BILLING CODE 4000-01-M